NUCLEAR REGULATORY COMMISSION

[Docket No. 50-271]

Entergy Nuclear Vermont Yankee, LLC and Entergy Nuclear Operations, Inc.; Notice of Withdrawal of Application for Amendment to Facility Operating License

The Nuclear Regulatory Commission (NRC or the Commission) has granted the request of Entergy Nuclear Vermont Yankee, LLC and Entergy Nuclear Operations, Inc. (the licensee) to withdraw its April 25, 2003, application, as supplemented May 21, 2003, June 11, 2003, and June 30, 2005, for a proposed amendment to Facility Operating License No. DPR-28 for the Vermont Yankee Nuclear Power Station (VYNPS), located in Windham County Vermont.

The proposed amendment would have revised the VYNPS Technical Specifications (TSs) related to instrumentation to correct deficiencies in the TSs, reduce operator work-arounds, improve and correct confusing and ambiguous TS requirements, and allow for process enhancements.

The Commission had previously issued a Notice of Consideration of Issuance of Amendment published in the Federal Register on August 5, 2003 (68 FR 46241). However, by letter dated September 7, 2005, the licensee withdrew the proposed amendment request.

For further details with respect to this action, see the application for amendment dated April 25, 2003, as supplemented on May 21, 2003, June 11, 2003, and June 30, 2005, and the license's letter dated September 7, 2005, which withdrew the application for license amendment. Documents may be examined, and/or copied for a fee, at the NRC's Public Document Room (PDR), located at One White Flint North, Public File Area 01 F21, 11555 Rockville Pike (first floor), Rockville, Maryland. Publicly available records will be accessible electronically from the Agencywide Documents Access and Management Systems (ADAMS) Public Electronic Reading Room on the internet at the NRC Web site, http://www.nrc.gov/reading-rm/adams/html. Persons who do not have access to ADAMS or who encounter problems in accessing the documents located in ADAMS, should contact the NRC PDR reference staff by telephone at 1-800-397-4209, or 301-415-4737, or by e-mail to pdr@nrc.gov.

Dated at Rockville, Maryland, this 23rd day of September, 2005.
For the Nuclear Regulatory Commission.
Richard B. Ennis,
Senior Project Manager, Section 2, Project Directorate I, Division of Licensing Project Management, Office of Nuclear Reactor Regulation.

[FR Doc. 05-19620 Filed 9-29-05; 8:45 am]

BILLING CODE 7590-01-P